DEPARTMENT OF THE INTERIOR

Fish and Wildlife Service

50 CFR Part 17

RIN 1018-AV40

Endangered and Threatened Wildlife and Plants; Notice of Scoping Meetings and Intent To Prepare an Environmental Impact Statement and Socio-Economic Assessment for the Proposed Amendment of the Rule Establishing a Nonessential Experimental Population of the Arizona and New Mexico Population of the Gray Wolf (“Mexican Gray Wolf”)

AGENCY: Fish and Wildlife Service, Interior.

ACTION: Advance notice of proposed rulemaking; notice of intent; and notice of public scoping meetings.

SUMMARY: We, the U.S. Fish and Wildlife Service (Service, us, or we), will prepare a draft environmental impact statement (EIS) and socio-economic assessment, pursuant to the National Environmental Policy Act (NEPA) of 1969, as amended, in conjunction with a proposed rule to amend the 1998 final rule that authorized the establishment of a nonessential experimental population of the “Mexican gray wolf” in Arizona and New Mexico, under section 10(j) of the Endangered Species Act of 1973, as amended (Act). We will hold 12 public informational sessions and scoping meetings.

Through this notice and the public scoping meetings, we are seeking comments or suggestions from the public, concerned governmental agencies, Tribes, the scientific community, industry, or any other interested parties concerning the scope of the EIS, pertinent issues we should address, and alternatives that should be analyzed.

DATES: Comments should be submitted directly to the Service's New Mexico Ecological Services Field Office (see ADDRESSES section) on or before December 31, 2007 or at any of the 12 scoping meetings to be held in November and December 2007. See SUPPLEMENTARY INFORMATION for the locations and dates of these scoping meetings.

ADDRESSES: Information, comments, or questions related to preparation of the draft EIS through the NEPA process should be submitted to Brian Millsap, State Administrator, U.S. Fish and Wildlife Service, New Mexico Ecological Services Field Office, 2105 Osuna NE, Albuquerque, NM 87113. Alternatively, information presented at the 12 public scoping meetings can be viewed on a “virtual public meeting” Web site at http://www.mexicanwolfeis.org and comments can be submitted from the same Web site. Written comments may also be sent by facsimile to (505) 346-2542 or by e-mail to R2FWE_AL@fws.gov. For directions on how to submit electronic comments, see the “Public Comments Solicited” section below.

FOR FURTHER INFORMATION CONTACT: Questions regarding the scoping process or development of a proposed rule amending the 1998 NEP final rule should be directed to John Morgart at (505) 346-2525. Persons who use a telecommunications device for the deaf (TDD) may call the Federal Information Relay Service (FIRS) at 1-800-877-8339, 24 hours a day, 7 days a week.

SUPPLEMENTARY INFORMATION:

Listed Entity

The Mexican gray wolf was listed as an endangered subspecies in 1976 (April 28, 1976; 41 FR 17736) under the Endangered Species Act of 1973, as amended (16 U.S.C. 1531 et seq.) (Act). In 1978, the Service listed the gray wolf species in North America south of Canada as endangered, except in Minnesota where it was listed as threatened, in 1978 (March 9, 1978; 43 FR 9607). The 1978 listing of the gray wolf species as a whole, subsumed the subspecies listing, however, the preamble to the rule continued to recognize the Mexican gray wolf as valid biological subspecies for purposes of research and conservation (43 FR 9607). After the 1978 listing of the gray wolf, the 50 CFR 17.11(h) List of Endangered and Threatened Wildlife (List) did not explicitly refer to an entity called the “Mexican gray wolf.” Due to its previous status as a subspecies, the Service has continued to refer to the gray wolves in the southwestern United States as the “Mexican gray wolf.” A 1998 final rule (January 12, 1998; 63 FR 1752) established a nonessential experimental population (NEP) of the Mexican gray wolf in Arizona and New Mexico.

In 2007, we published a final rule (February 8, 2007; 72 FR 6052) designating the Western Great Lakes Distinct Population Segment (DPS) of the gray wolf and removing that DPS from the List. On the same date, we also published a proposed rule (72 FR 6105) to designate the Northern Rocky Mountain DPS of the gray wolf and remove that DPS from the List as well. The nonessential experimental population of the gray wolf in the southwest is listed as endangered. In the table at 50 CFR 17.11(h), the official listed entity for the NEP is the gray wolf in Arizona and New Mexico. However, because the 1998 NEP final rule referred to the NEP as the “Mexican gray wolf” we will continue to use the term throughout the remainder of this document for ease of reference.

Public Comments Solicited

We seek comment from Federal, State, local, or Tribal government agencies; the scientific or business community; ranchers; landowners; or any other interested party. To promulgate a proposed rule and prepare a draft EIS, including an assessment of socio-economic impacts, we will take into consideration all comments and any additional information received. All comments, including names and addresses, will become part of the supporting record.

If you wish to provide comments and/or information, you may submit your comments and materials by any one of several methods (see ADDRESSES). Comments submitted electronically should be in the body of the e-mail message itself or attached as a text file (ASCII), and should not use special characters or encryption. Please also include “Attn: Mexican Gray Wolf NEPA Scoping,” your full name, and your return address in your e-mail message. If you do not receive a confirmation from the system that we have received your e-mail message, please contact us directly by calling our New Mexico Ecological Services Field Office (see ADDRESSES section).

Before including your address, phone number, e-mail address, or other personal identifying information in your comment, you should be aware that your entire comment—including your personal identifying information—may be made publicly available at any time. While you can ask us in your comment to withhold your personal identifying information from public review, we cannot guarantee that we will be able to do so. We will always make submissions from organizations or businesses, and from individuals identifying themselves as representatives of or officials of organizations or businesses, available for public inspection in their entirety. Comments and materials received will be available for public inspection, by appointment, during normal business hours at New Mexico Ecological Services Field Office in Albuquerque, New Mexico (see ADDRESSES).

We intend for the draft EIS to consider reasonable alternatives for amendment of the 1998 NEP final rule (January 12, 1998; 63 FR 1752) for the Mexican gray wolf in Arizona and New Mexico. We also wish to ensure that any proposed rulemaking to amend the existing NEP effectively evaluates all potential issues and impacts. Therefore, we are seeking comments and suggestions on the following issues for consideration in preparation of the draft EIS and the proposed amendment concerning the 1998 NEP final rule for the Mexican gray wolf. This list is not intended to be all inclusive, and comments on any other pertinent issues related to the Mexican gray wolf NEP are welcome and solicited.

Issues Related to the Scope of the NEP

(a) Current management stipulations that require wolves that establish home ranges outside the Blue Range Wolf Recovery Area (BRWRA) to be removed and re-released into the BRWRA or taken into captivity. This stipulation stemmed from the intention in the 1998 NEP final rule that wolves would not be reestablished throughout the entire Mexican Wolf Experimental Population Area (MWEPA), but only within the BRWRA, which is a subarea of the MWEPA. However, analysis indicates that removals for boundary violations due to wolves dispersing or establishing territories outside the BRWRA are not conducive to achieving the reintroduction project objective of “re-establishing a viable, self-sustaining population of at least 100 Mexican [gray] wolves” (U.S. Fish and Wildlife Service 1982, p. 23). In other words, change in this aspect of the 1998 NEP final rule would provide the Service with the authority to allow wolves to establish territories outside the boundaries of the BRWRA.

(b) Current management stipulations allow for initial Mexican gray wolf releases from captivity only into the primary recovery zone of the BRWRA. Management experience has demonstrated that this stipulation in the 1998 NEP final rule sets impractical limits on available release sites and wolves that can be released into the secondary recovery zone, limits the Mexican Gray Wolf Reintroduction Project's (Project) ability to address genetic issues, and results in a misperception that the secondary recovery zone is composed largely of “problem” animals that have been translocated to the secondary zone after management removal due to livestock depredation events. In other words, a change in this aspect of the 1998 NEP final rule would possibly provide the Service the authority to release Mexican gray wolves from the captive breeding population into New Mexico.

(c) The definition of the White Sands Missile Range, which is within the MWEPA, as the White Sands Wolf Recovery Area. However, the White Sands Wolf Recovery Area is not of sufficient size nor does it have sufficient prey density to function as an independent recovery area.

(d) Limited provisions for private individuals to “harass” wolves engaged in nuisance behavior or livestock depredation, or which are attacking domestic pets on private, public, or Tribal lands. Current provisions in the 1998 NEP final rule allow for “opportunistic, noninjurious harassment” of wolves by private individuals; that is, individuals are not allowed to harass wolves in such a manner as to even potentially result in bodily injury or death of a Mexican gray wolf. Management experience in the BRWRA, as well as the Northern Rocky Mountain DPS gray wolf recovery program, suggests that a variety of harassment methods could provide an effective deterrent to problem Mexican gray wolf behavior, as well as increasing public acceptance of Mexican gray wolf recovery. All possible alternatives and remedies need to be explored.

(e) Current provisions in the 1998 NEP final rule that do not allow for “take” of wolves in the act of attacking domestic dogs on private or Tribal Trust lands. However, domestic dog injuries and mortalities have occurred within the BRWRA due to interactions between wolves and dogs, primarily near people's homes. Lack of take authority in instances where take may have been warranted has resulted in substantial negative impacts on some local residents and visitors to the BRWRA.

(f) Among other issues, the need to clarify definitions of: “breeding pair,” “depredation incident,” and “thresholds for permanent removal.” In addition, there is a need to identify other possible impediments to establishing wolves, such as the livestock carcass management and disposal issue identified in the 3-year review of the project (Paquet et al. 2001, p. 69). The authors of this report recommended that the Service “require livestock operators on public land to take some responsibility for carcass management/disposal to reduce the likelihood that wolves become habituated to feeding on livestock.” In other words, if a new final rule is promulgated that incorporates this recommendation from the 3-year review, it may result in redefining “nuisance wolves” and “problem wolves” so as to exclude animals that scavenge on the carcasses of livestock that died of non-wolf causes.

(g) The issues addressed in this scoping process include issues addressed in a petition for Rulemaking dated March 29, 2004 provided to the Service by the Center for Biological Diversity. This Notice, and the subsequent public notice and comment period, will provide the public an opportunity to comment on the issues provided in the Center for Biological Diversity's Petition for Rulemaking.

Issues Related to Evaluation of the Environmental Impacts

We are seeking comments on the identification of direct, indirect, beneficial, and adverse effects that might be caused by amendment of the 1998 NEP final rule that established the current NEP of Mexican gray wolf. You may wish to consider the following issues when providing comments:

(a) Impacts on floodplains, wetlands, wild and scenic rivers, or ecologically sensitive areas;

(b) Impacts on park lands and cultural or historic resources;

(c) Impacts on human health and safety;

(d) Impacts on air, soil, and water;

(e) Impacts on prime agricultural lands;

(f) Impacts to other species of wildlife, including other endangered or threatened species;

(g) Disproportionately high and adverse impacts on minority and low-income populations;

(h) Any other potential or socioeconomic effects; and

(i) Any potential conflicts with other Federal, State, local, or Tribal environmental laws or requirements.

We will give separate notice of the availability of the draft EIS when completed, so that interested and affected people may comment on the draft and have input into the final decision.

Public Scoping Meetings

We will hold informal public informational sessions, present currently identified issues, and conduct scoping meetings at the following dates and times:

1. November 26, 2007: Flagstaff, AZ

Informational session: 5 p.m. to 6 p.m.; Presentation of known issues: 6 p.m. to 6:30 p.m., Scoping meeting: 6:30 p.m. to 9 p.m.

2. November 27, 2007: Hon-dah, AZ

Informational session: 5 p.m. to 6 p.m.; Presentation of known issues: 6 p.m. to 6:30 p.m., Scoping meeting: 6:30 p.m. to 9 p.m.

3. November 28, 2007: Alpine, AZ

Informational session: 5 p.m. to 6 p.m.; Presentation of known issues: 6 p.m. to 6:30 p.m.; Scoping meeting: 6:30 p.m. to 9 p.m.

4. November 29, 2007: Grants, NM

Informational session: 5 p.m. to 6 p.m.; Presentation of known issues: 6 p.m. to 6:30 p.m.; Scoping meeting: 6:30 p.m. to 9 p.m.

5. November 30, 2007: Albuquerque, NM

Informational session: 5 p.m. to 6 p.m.; Presentation of known issues: 6 p.m. to 6:30 p.m.; Scoping meeting: 6:30 p.m. to 9 p.m.

6. December 1, 2007: Socorro, NM

Informational session: 11 a.m. to 12 p.m.; Presentation of known issues: 12 p.m. to 12:30 p.m.; Scoping meeting: 12:30 p.m. to 3 p.m.

7. December 3, 2007: Alamogordo, NM

Informational session: 5 p.m. to 6 p.m.; Presentation of known issues: 6 p.m. to 6:30 p.m.; Scoping meeting: 6:30 p.m. to 9 p.m.

8. December 4, 2007: Las Cruces, NM

Informational session: 5 p.m. to 6 p.m. Presentation of known issues: 6 p.m. to 6:30 p.m.; Scoping meeting: 6:30 p.m. to 9 p.m.

9. December 5, 2007: Glenwood, NM

Informational session: 5 p.m. to 6 p.m. Presentation of known issues: 6 p.m. to 6:30 p.m.; Scoping meeting: 6:30 p.m. to 9 p.m.

10. December 6, 2007: Safford, AZ

Informational session: 5 p.m. to 6 p.m.; Presentation of known issues: 6 p.m. to 6:30 p.m.; Scoping meeting: 6:30 p.m. to 9 p.m.

11. December 7, 2007: Tucson, AZ

Informational session: 5 p.m. to 6 p.m. Presentation of known issues: 6 p.m. to 6:30 p.m.; Scoping meeting: 6:30 p.m. to 9 p.m.

12. December 8, 2007: Phoenix, AZ

Informational session: 11 a.m. to 12 p.m.; Presentation of known issues: 12 p.m. to 12:30 p.m.; Scoping meeting: 12:30 p.m. to 3 p.m.

The Service will provide additional notification of the public information sessions, issue presentations, and scoping meetings and specific address information through newspaper advertisements and other appropriate media.

Background

Historically, Mexican gray wolves were distributed across much of the southwestern United States, and northern and central Mexico. This range included eastern and central Arizona, southern New Mexico, and west Texas (Brown 1988, pp. 10-11; Parsons 1996, pp. 102-104). In addition, results from recent genetics examining historic Mexican gray wolf specimens collected in 1916 and earlier (Leonard et al. 2005, pp. 10, 15) suggest that Mexican gray wolves genetically intergraded with more northern subspecies well into Colorado and Utah. However, the Mexican gray wolf was extirpated from the southwestern United States by the early 1970s as a consequence of an aggressive eradication program (Brown 1988, pp. 31-32). More information about the life history and decline of the Mexican gray wolf in the southwestern United States can be found in the Mexican Wolf Recovery Plan (U.S. Fish and Wildlife Service 1982, pp. 5-8, 11-12), the Final EIS, entitled “Reintroduction of the Mexican Wolf within its Historic Range in the Southwestern United States” (U.S. Fish and Wildlife Service 1996, pp. 1-2 to 1-7), the NEP final rule (January 12, 1998; 63 FR 1752), and the Mexican Wolf Blue Range Reintroduction Project 5-Year Review (Mexican Wolf Blue Range Adaptive Management Oversight Committee and Interagency Field Team 2005, pp. TC-1 to TC-24; March 16, 2006, 71 FR 13624).

Recovery Efforts

The Mexican Wolf Recovery Team was formed in 1979, and the United States and Mexico signed the Mexican Wolf Recovery Plan in September 1982 (U.S. Fish and Wildlife Service 1982, signature page). The prime objective of the 1982 Recovery Plan is: “To conserve and ensure the survival of Canis lupus baileyi by maintaining a captive breeding program and re-establishing a viable, self-sustaining population of at least 100 Mexican [gray] wolves in the middle to high elevations of a 5,000-square-mile area within the Mexican [gray] wolf's historic range” (U.S. Fish and Wildlife Service 1982, p. 23). As of July 2006, there were just under 300 Mexican gray wolves held in captivity in 44 facilities in the United States and Mexico under the direction of a Species Survival Plan (Siminski and Spevak 2006, p. 5). We completed the Final EIS on the “Reintroduction of the Mexican Wolf Within its Historic Range in the Southwestern United States” in November 1996 (U.S. Fish and Wildlife Service 1996). We published the final rule to establish an NEP of the Mexican gray wolf in Arizona and New Mexico in 1998 (January 12, 1998; 63 FR 1752). Mexican gray wolves were first introduced to the BRWRA in March 1998, when 11 captive-born and reared animals were “initial-released” into the primary recovery zone of the BRWRA (initial-release means that wolves that have been born and reared in captivity are released for the first time into the wild). Additional individuals and family groups have been initial-released or translocated into various parts of the BRWRA each year through 2007. Minimum estimates of the number of wolves and breeding pairs in the BRWRA at the end of 2006 were 59 and 7, respectively. This falls significantly short of the projection in the 1996 Final EIS of 102 wolves and 18 breeding pairs for the same timeframe.

In December 2005, the Mexican Wolf Blue Range Adaptive Management Oversight Committee (AMOC) and Interagency Field Team completed a 5-Year Review of the Mexican Wolf Blue Range Reintroduction Project (this project-focused review is different and separate from a species' 5-year review required under section 4(c)(2)(A) of the Act). The project 5-year review was a requirement of the 1998 NEP final rule, which states under 50 CFR 17.84(k)(13): “The Service will evaluate Mexican [gray] wolf reintroduction progress and prepare periodic progress reports, detailed annual reports, and full evaluations after 3 and 5 years that recommend continuation, modification, or termination of the reintroduction effort” (63 FR 1771). Included in the 5-year review was a list of 37 recommendations that included “continuing the Reintroduction Project with modifications” (Mexican Wolf Blue Range Adaptive Management Oversight Committee and Interagency Field Team 2005, p. ARC-3). Upon receipt, the Service took the 5-year review and submitted it for an additional 7 weeks of public comment (March 16, 2006, 71 FR 13624; May 15, 2006, 71 FR 28049). On July 24, 2006, the acting Southwest Regional Director issued his determination in a letter to the Chair of the AMOC that “the Mexican [gray] wolf Reintroduction Program will continue with modifications as generally outlined within the recommendations component of the 5-Year Review. Furthermore, the Service will work with the cooperating agencies and the AMOC to begin the process of developing a new 10(j) proposed rule and associated NEPA analysis” (Tuggle 2006, p. 4). The 37 recommendations from the 5-year review can be viewed on the Service's Mexican gray wolf Web page at: http://www.fws.gov/southwest/es/mexicanwolf/.

Experimental Populations

Congress made significant changes to the Act in 1982 with the addition of section 10(j), which provides for designation of specific reintroduced populations of listed species as “experimental populations.” Under section 10(j), the Secretary of the Department of the Interior can designate reintroduced populations established outside the species' current range, but within its historic range, as “experimental.” On the basis of the best scientific and commercial data available, we must determine whether an experimental population is “essential” or “nonessential” to the continued existence of the species. This determination was made for the Mexican gray wolf in the 1998 NEP final rule (January 12, 1998, 63 FR 1752).

The Service is considering a potential amendment of the 1998 NEP final rule because we believe management constraints contained in that rule are too restrictive to meet management objectives expressed in the 1982 Recovery Plan (U.S. Fish and Wildlife Service 1982, p. 23), the Record of Decision to the 1996 Final EIS (U.S. Fish and Wildlife Service 1997, pp. 11, 17), and the 2005 Mexican Wolf Blue Range Reintroduction Project 5-Year Review (Mexican Wolf Blue Range Adaptive Management Oversight Committee and Interagency Field Team 2005, p. TC-2). Some of the issues that need to be evaluated include:

(a) Internal and external boundaries of the BRWRA, which limit management opportunities in terms of initial releases and translocations;

(b) The requirement to capture any wolves that stray outside the BRWRA and establish home ranges and return them to the BRWRA or to captivity;

(c) The limited size and prey density of the White Sands Missile Range, which is an alternative Recovery Area in the MWEPA; and

(d) Limited provisions for private individuals to “harass” wolves engaged in nuisance behavior or livestock depredation, and for “take” of wolves in the act of attacking domestic dogs on private or Tribal Trust lands.

Under the Act, species listed as endangered or threatened are afforded protection primarily through the prohibitions of section 9 and the requirements of section 7. Section 9 of the Act prohibits the take of endangered wildlife. “Take” is defined in section 3 of the Act as “to harass, harm, pursue, hunt, shoot, wound, kill, trap, capture, or collect, or attempt to engage in any such conduct.” Service regulations (50 CFR 17.31) generally extend the prohibition of take to threatened wildlife. Section 7 of the Act outlines the procedures for Federal interagency cooperation to conserve federally listed species and protect designated critical habitats. It mandates all Federal agencies to determine how to use their existing authorities to further the purposes of the Act to aid in recovering listed species. It also states that Federal agencies will, in consultation with the Service, ensure that any action they authorize, fund, or carry out is not likely to jeopardize the continued existence of a listed species or result in the destruction or adverse modification of designated critical habitat. Section 7 of the Act does not affect activities undertaken on private lands unless they are authorized, funded, or carried out by a Federal agency. In addition, section 6 addresses authorities, relative to endangered species, delegated to States that are signatories to section 6 cooperative agreements.

For purposes of section 9 of the Act, a population designated as experimental is treated as threatened regardless of the species' designation elsewhere in its range. Threatened designation allows greater discretion in devising management programs and special regulations for such a population. Section 4(d) of the Act allows us to adopt regulations that are necessary to provide for the conservation of a threatened species. In these situations, the general regulations that extend most section 9 prohibitions to threatened species do not apply to that species, and the section 10(j) rule contains the prohibitions and exemptions necessary and appropriate to conserve that species. Regulations issued under section 10(j) for NEPs are usually more compatible with routine human activities in the reestablishment area.

For the purposes of section 7 of the Act, we treat an NEP as a threatened species when the NEP is located within a National Wildlife Refuge or National Park, and section 7(a)(1) and the consultation requirements of section 7(a)(2) of the Act apply. Section 7(a)(1) requires all Federal agencies to use their authorities to conserve listed species. Section 7(a)(2) requires that Federal agencies, in consultation with the Service, ensure that any actions they authorize, fund, or carry out are not likely to jeopardize the continued existence of a listed species or adversely modify its critical habitat. When NEPs are located outside a National Wildlife Refuge or National Park, we treat the population as proposed for listing and only two provisions of section 7 would apply: Section 7(a)(1) and section 7(a)(4). In these instances, NEPs provide additional flexibility because Federal agencies are not required to consult with us under section 7(a)(2). Section 7(a)(4) requires Federal agencies to confer (rather than consult) with the Service on actions that are likely to jeopardize the continued existence of a species proposed to be listed. The results of a conference are optional as the agencies carry out, fund, or authorize activities.

In order to amend an NEP, we must issue a proposed rule and consider public comments on it prior to publishing a final rule. In addition, we must comply with NEPA (42 U.S.C. 4321 et seq.). Also, our regulations require that, to the maximum extent practicable, a regulation issued under section 10(j) of the Act represents an agreement between the Service, the affected State and Federal agencies, and persons holding any interest in land that may be affected by the establishment of the experimental population (see 50 CFR 17.81(d)).

We have not yet identified possible alternatives for accomplishing our goals of amending the 1998 NEP final rule to better enable progress toward reintroduction and recovery goals, and we do not know what the preferred alternative (the proposed action) or other alternatives might entail. Once identified, the alternatives will be carried forward into detailed analyses pursuant to NEPA.

We will take the following steps prior to making a decision regarding any proposed amendment to the 1998 Mexican gray wolf NEP final rule:

(1) Compile and analyze all new biological information on the species;

(2) Review and update the administrative record covering previous Federal actions for the species;

(3) Review the overall approach to conservation and recovery of the gray wolf in the United States in general, and the Mexican gray wolf in the southwestern United States in particular;

(4) Review available information that pertains to the management and habitat requirements of this species, including material received during the public comment period for this advance notice of proposed rulemaking, during the scoping meetings, and from previous rulemakings;

(5) Review actions identified in the Recovery Plan (U.S. Fish and Wildlife Service 1982, pp. 28-40);

(6) Coordinate with State, county, local, and Federal partners;

(7) Coordinate with Tribal partners;

(8) Coordinate with Mexican authorities;

(9) Conduct a socioeconomic analysis of the consequences of amending the existing 1998 NEP final rule;

(10) Write a draft EIS and present alternatives to the public for review and comment;

(11) Incorporate public input and use current knowledge of Mexican gray wolf habitat use, needs, and availability to precisely map any potential changes to the existing MWEPA and BRWRA;

(12) Publish in the Federal Register a proposed rule to revise the 1998 NEP final rule and solicit comments from the public;

(13) Finalize the draft EIS and issue a Record of Decision; and

(14) If we determine that it is prudent to proceed with an amendment to the 1998 NEP Final Rule, publish a new final rule, potentially identifying an amended NEP area as one component for continuing the reintroduction project for the conservation and eventual recovery of the Mexican gray wolf in the southwestern United States.

We are the lead Federal agency for compliance with NEPA for this action. Thus far, the Arizona Game and Fish Department, New Mexico Department of Game and Fish, U.S. Department of Agriculture (USDA) Animal and Plant Health Inspection Service—Wildlife Services, and USDA Forest Service have agreed to be cooperating agencies in the NEPA process. The draft EIS will incorporate public concerns in the analysis of impacts associated with the proposed action and associated project alternatives. The draft EIS will be sent out for a minimum 90-day public review period, during which time additional public meetings may be held and comments will be solicited on the adequacy of the document. The final EIS will address the comments we receive during public review and will be furnished to all who commented on the draft EIS and made available to anyone who requests a copy. This notice is provided pursuant to regulations for implementing NEPA (40 CFR 1506.6).

References

A complete list of all references cited in this notice is available, upon request, from the U.S. Fish and Wildlife Service, New Mexico Ecological Services Field Office (see ADDRESSES section).

Authority

The authority for this action is the Endangered Species Act of 1973 (16 U.S.C. 1531 et seq.) and the National Environmental Policy Act of 1969 (42 U.S.C. 4321 et seq.).

Dated: July 19, 2007.
Todd Willens,
Acting Assistant Secretary for Fish and Wildlife and Parks.

[FR Doc. E7-14626 Filed 8-6-07; 8:45 am]

BILLING CODE 4310-55-P